DEPARTMENT OF JUSTICE

Notice of Lodging of a Consent Decree Under the Comprehensive Environmental Response, Compensation, and Liability Act

Notice is hereby given that on December 5, 2007 a proposed Consent Decree in the case of United States v. Liberty Property Limited Partnership, Docket No. 07-cv-5119, was lodged with the United States District Court for the Eastern District of Pennslyvania.

In this proceeding, the United States filed a claim pursuant to sections 106 and 107 of the Comprehensive Environmental Response, Compensation, and Liability Act (“CERCLA”), 42 U.S.C. 9606 and 9607, for the performance of response work at a portion of the Crater Resources Superfund site, in Upper Merion Township, Montgomery County, Pennsylvania, and reimbursement of response costs. Pursuant to the consent decree the defendants will perform cleanup work on property owned by Liberty Property, within the Crater Resources Site. Liberty Property will also reimburse U.S. EPA for future response costs related to the work being performed.

The Department of Justice will receive, for a period of thirty (30) days from the date of this publication, comments relating to the Consent Decree. Comments should be addressed to the Assistant Attorney General, Environment and Natural Resources Division, and either emailed to pubcomment-ees.enrd@usdog.gov, or mailed to: P.O. Box 7611, U.S. Department of Justice, Washington, DC 20044-7611, and should refer to: U.S. v. Liberty Property Limited Partnership, D.J. Ref. 90-11-2-1283/2.

The Consent Decree may be examined at U.S. EPA Region III, Office of Regional Counsel, 1650 Arch Street, Philadelphia, PA 19103-2029, c/o Patricia Miller. During the public comment period, the Consent Decree may also be examined at the following Department of Justice Web site: http://www.usdog.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdog.gov), fax no. (202) 514-0097, phone confirmation number (202) 514-1547. In requesting a copy from the Consent Decree Library, please enclose a check in the amount of $25.75 for the Consent Decree only (25 cents per page reproduction cost), or $90.50 for the Consent Decree and all of the attached exhibits, payable to the U.S. Treasury or, if by e-mail or fax, forward a check in that amount to the Consent Decree Library at the stated address.

Robert Brook,
Assistant Chief, Environmental Enforcement Section, Environment and Natural Resources Division.

[FR Doc. 07-6027 Filed 12-11-07; 8:45 am]

BILLING CODE 4410-15-M